DEPARTMENT OF VETERANS AFFAIRS

[OMB Control No. 2900-0717]

Proposed Information Collection (Child Care Subsidy) Activity: Comment Request

AGENCY: Human Resources Management, Department of Veterans Affairs.

ACTION: Notice.

SUMMARY: The Human Resources Management (HRM), Department of Veterans Affairs (VA), is announcing an opportunity for public comment on the proposed collection of certain information by the agency. Under the Paperwork Reduction Act (PRA) of 1995, Federal agencies are required to publish notice in the Federal Register concerning each proposed collection of information, including each revised collection, and allow 60 days for public comment in response to this notice. This notice solicits comments on information needed to determine VA employees' eligibility to participate in VA's child care subsidy program.

DATES: Written comments and recommendations on the proposed collection of information should be received on or before January 12, 2015.

ADDRESSES: Submit written comments on the collection of information through the Federal Docket Management System (FDMS) at www.Regulations.gov or to Jean Hayes, Human Resources and Administration (05), Department of Veterans Affairs, 810 Vermont Avenue NW., Washington, DC 20420 or email: jean.hayes@va.gov. Please refer to “OMB Control No. 2900-0717” in any correspondence.

FOR FURTHER INFORMATION CONTACT: Jean Hayes at (202) 461-7863.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, HRM invites comments on: (1) Whether the proposed collection of information is necessary for the proper performance of HRM's functions, including whether the information will have practical utility; (2) the accuracy of HRM's estimate of the burden of the proposed collection of information; (3) ways to enhance the quality, utility, and clarity of the information to be collected; and (4) ways to minimize the burden of the collection of information on respondents, including through the use of automated collection techniques or the use of other forms of information technology.

Titles:

a. Child Care Subsidy Application Form, VA Form 0730a.

b. Child Care Provider Information (For the Child Care Subsidy Program), VA Form 0730b.

OMB Control Number: 2900-0717.

Type of Review: Revision of a currently approved collection.

Abstracts:

a. VA employees complete VA Form 0730a to request participation in VA's child care subsidy program. VA will use the data collected to determine the percentage of monthly cost to be subsidized for child care.

b. VA Form 0730b is completed by the child care provider. The data will be used to determine whether the child care provider is licensed and/or regulated by the state to perform child care.

Affected Public: Individuals or households.

Estimated Annual Burden:

a. VA Form 0730a—667 hours.

b. VA Form 0730b—333 hours.

Estimated Average Burden per Respondent:

a. VA Form 0730a—20 minutes.

b. VA Form 0730B—10 minutes.

Frequency of Response: On occasion.

Estimated Number of Respondents:

a. VA Form 0730a—2,000.

b. VA Form 0730b—2,000.

Dated: November 6, 2014.
By direction of the Secretary.
Crystal Rennie,
Department Clearance Officer, Department of Veterans Affairs.

[FR Doc. 2014-26725 Filed 11-10-14; 8:45 am]

BILLING CODE 8320-01-P